DEPARTMENT OF COMMERCE

International Trade Administration

[A-557-827, A-455-808, A-583-875, A-489-852]

Dioctyl Terephthalate From Malaysia, Poland, Taiwan, and the Republic of Türkiye: Antidumping Duty Orders

AGENCY: Enforcement and Compliance, International Trade Administration, Department of Commerce.

SUMMARY: Based on the affirmative final determinations by the U.S. Department of Commerce (Commerce) and the U.S. International Trade Commission (ITC), Commerce is issuing antidumping duty (AD) orders on dioctyl terephthalate (DOTP) from Malaysia, Poland, Taiwan, and the Republic of Türkiye (Türkiye).

DATES: Applicable May 22, 2025.

FOR FURTHER INFORMATION CONTACT: Nathan Araya (Malaysia), Colin Thrasher (Poland), Hannah Lee (Taiwan), Dennis McClure or Noah Wetzel (Türkiye), AD/CVD Operations, Offices II, V, and VIII, respectively, Enforcement and Compliance, International Trade Administration, U.S. Department of Commerce, 1401 Constitution Avenue NW, Washington, DC 20230; telephone: (202) 482-3401, (202) 482-3004, (202) 482-1216, (202) 482-5973 or (202) 482-7466, respectively.

SUPPLEMENTARY INFORMATION:

Background

In accordance with sections 735(d) and 777(i) of the Tariff Act of 1930, as amended (the Act), on March 28, 2025, Commerce published in the Federal Register its affirmative final determinations of sales at less-than-fair-value (LTFV) of DOTP from Malaysia, Poland, Taiwan, and Türkiye.¹ Pursuant to section 735(d) of the Act, on May 9, 2025, the ITC notified Commerce of its affirmative final determinations that an industry in the United States is materially injured, within the meaning of section 735(b)(1)(A)(i) of the Act, by reason of imports of DOTP from Malaysia, Poland, Taiwan, and Türkiye that are sold in the United States at LTFV.²

¹ See Dioctyl Terephthalate from Malaysia: Final Affirmative Determination of Sales at Less Than Fair Value, 90 FR 14073 (March 28, 2025) (DOTP from Malaysia Final Determination); Dioctyl Terephthalate from Poland: Final Affirmative Determination of Sales at Less Than Fair Value, 90 FR 14117 (March 28, 2025) (DOTP from Poland Final Determination); Dioctyl Terephthalate from Taiwan: Final Affirmative Determination of Sales at Less Than Fair Value, 90 FR 14069 (March 28, 2025) (DOTP from Taiwan Final Determination); and Dioctyl Terephthalate From the Republic of Türkiye: Final Affirmative Determination of Sales at Less Than Fair Value, 90 FR 14071 (March 28, 2025) (DOTP from Türkiye Final Determination).

² See ITC's Letter, “Notification of ITC Final Determinations,” dated May 9, 2025.

Scope of the Orders

The products covered by these orders are DOTP from Malaysia, Poland, Taiwan, and Türkiye. For a complete description of the scope of these orders, see the appendix to this notice.

AD Orders

Based on the above-referenced affirmative final determinations, in accordance with sections 735(c)(2) and 736 of the Act, Commerce is issuing these AD orders. Moreover, because the ITC determined that U.S. imports of DOTP from Malaysia, Poland, Taiwan, and Türkiye are materially injuring a U.S. industry, unliquidated entries of such merchandise from Malaysia, Poland, Taiwan, and Türkiye, entered or withdrawn from warehouse for consumption, as described below, are subject to the assessment of antidumping duties.

Therefore, in accordance with section 736(a)(1) of the Act, Commerce will direct U.S. Customs and Border Protection (CBP) to assess, upon further instruction by Commerce, antidumping duties equal to the amount by which the normal value of the merchandise exceeds the export price or constructed export price of the merchandise on all relevant entries of DOTP from Malaysia, Poland, Taiwan, and Türkiye. With the exception of entries occurring after expiration of the provisional measures period, but before publication of the ITC's final affirmative injury determination, as further described below, antidumping duties will be assessed on unliquidated U.S. entries of DOTP from Malaysia, Poland, Taiwan, and Türkiye entered, or withdrawn from warehouse, for consumption on or after November 5, 2024, the date of publication of the Preliminary Determinations.³ Because Commerce made final affirmative determinations of sales at LTFV of DOTP from each of the above-referenced countries, Commerce directed CBP to continue suspension of liquidation of DOTP from Malaysia, Poland, Taiwan, and Türkiye entered or withdrawn from warehouse for consumption, on or after March 28, 2025, the date of publication of the Final Determination.⁴

³ See Dioctyl Terephthalate from Malaysia: Preliminary Affirmative Determination of Sales at Less Than Fair Value, Postponement of Final Determination, and Extension of Provisional Measures, 89 FR 87848 (November 5, 2024) (DOTP from Malaysia Preliminary Determination); Dioctyl Terephthalate from Poland: Preliminary Affirmative Determination of Sales at Less Than Fair Value, Postponement of Final Determination, and Extension of Provisional Measures, 89 FR 87844 (November 5, 2025) (DOTP from Poland Preliminary Determination); Dioctyl Terephthalate from Taiwan: Preliminary Affirmative Determination of Sales at Less Than Fair Value, Postponement of Final Determination, and Extension of Provisional Measures, 89 FR 87846 (November 5, 2024) (DOTP from Taiwan Preliminary Determination); and Dioctyl Terephthalate From the Republic of Türkiye: Preliminary Affirmative Determination of Sales at Less Than Fair Value, Postponement of Final Determination, and Extension of Provisional Measures, 89 FR 87855 (November 5, 2024) (DOTP from Türkiye Preliminary Determination) (collectively, Preliminary Determinations).

⁴ See DOTP from Malaysia Final Determination, DOTP from Poland Final Determination, DOTP from Taiwan Final Determination, and DOTP from Türkiye Final Determination.

Continuation of Suspension of Liquidation and Cash Deposits

Except as noted in the “Provisional Measures” section of this notice below, in accordance with section 736 of the Act, Commerce will instruct CBP to continue to suspend liquidation of all relevant entries of DOTP from Malaysia, Poland, Taiwan, and Türkiye. These instructions suspending liquidation will remain in effect until further notice.

Commerce will also instruct CBP to require cash deposits at a rate equal to the estimated weighted-average dumping margins listed in the table below. Accordingly, effective on the date of publication in the Federal Register of the notice of the ITC's affirmative final injury determination, CBP will require, at the same time as importers would normally deposit estimated duties on subject merchandise, a cash deposit equal to the weighted-average dumping margins listed in the table below. The all-others rate applies to all producers or exporters not specifically listed, as appropriate.

Estimated Weighted-Average Dumping Margins

The estimated weighted-average dumping margins, as published in Commerce's Final Determinations, are as follows:

Malaysia
Producer/exporter | Weighted- average dumping margin (percent)
UPC Chemicals (Malaysia) Sdn Bhd | 7.50
All Others | 7.50

Poland
Producer/exporter | Weighted- average dumping margin (percent)
Grupa Azoty Zaklady Azotowy | *57.88
All Others | 57.88
* Rate based on facts otherwise available with adverse inferences.

Taiwan
Producer/exporter | Weighted- average dumping margin (percent)
Nan Ya Plastics Corp | 18.73
Oxyde Chemicals Singapore Pte. Ltd | * 32.94
Fortune Chemical Corp., Ltd | * 32.94
All Others | 18.73
* Rate based on facts otherwise available with adverse inferences.

Türkiye
Producer/exporter | Weighted- average dumping margin (percent)
By Petrokimya Sanayi Ve Ticaret A.S | * 80.71
All Others | 61.61
* Rate based on facts otherwise available with adverse inferences.

Provisional Measures

Section 733(d) of the Act states that suspension of liquidation pursuant to an affirmative preliminary determination may not remain in effect for more than four months, except where exporters representing a significant proportion of exports of the subject merchandise request that Commerce extend the four-month period to no more than six months. At the request of exporters that accounted for a significant proportion of exports of DOTP from Malaysia, Poland, Taiwan and Türkiye, Commerce extended the four-month period to no more than six-months.⁵ In the underlying investigations, Commerce published the Preliminary Determinations on November 5, 2024. Therefore, the six-month provisional measures period beginning on the date of publication of the Preliminary Determinations ended on May 4, 2025.

⁵ See DOTP from Malaysia Preliminary Determination; DOTP from Poland Preliminary Determination; DOTP from Taiwan Preliminary Determination; and DOTP from Türkiye Preliminary Determination.

Pursuant to section 737(b) of the Act, the collection of cash deposits at the rates listed above will begin on the date of publication of the ITC's final injury determinations, which in the underlying investigations of DOTP from Malaysia, Poland, Taiwan, and Türkiye is May 15, 2025.⁶ Therefore, in accordance with section 736(a)(1) of the Act and our practice, Commerce will instruct CBP to terminate the suspension of liquidation, and to liquidate, without regard to antidumping duties, unliquidated U.S. entries of DOTP from Malaysia, Poland, Taiwan, and Türkiye entered, or withdrawn from warehouse, for consumption on or after May 5, 2025, the first day on which the provisional measures were no longer in effect, until and through May 14, 2025, i.e., the day preceding the date of publication of the ITC Final Determinations in the Federal Register.⁷ Suspension of liquidation and the collection of cash deposits will resume on May 15, 2025, i.e., the date of publication of the ITC Final Determinations in the Federal Register.⁸

⁶ See Dioctyl Terephthalate (DOTP) From Malaysia, Poland, Taiwan, and Turkey Determinations, 90 FR 20688 (May 15, 2025) (ITC Final Determinations).

⁷ Id.

⁸ Id.

Establishment of the Annual Inquiry Service Lists

On September 20, 2021, Commerce published the final rule titled Regulations to Improve Administration and Enforcement of Antidumping and Countervailing Duty Laws in the Federal Register.⁹ On September 27, 2021, Commerce published a notification titled Scope Ruling Application; Annual Inquiry Service List; and Informational Sessions in the Federal Register.¹⁰ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.¹¹

⁹ See Regulations to Improve Administration and Enforcement of Antidumping and Countervailing Duty Laws, 86 FR 52300 (September 20, 2021) (Final Rule).

¹⁰ See Scope Ruling Application; Annual Inquiry Service List; and Informational Sessions, 86 FR 53205 (September 27, 2021) (Procedural Guidance).

¹¹ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be maintained in ACCESS, under each case number, and under a specific segment type called “AISL-Annual Inquiry Service List.” ¹²

¹² This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance in the annual inquiry service list segment in ACCESS for the order within 30 days after the date of publication of the order in the Federal Register. For ease of administration, Commerce requests that a law firm with more than one attorney representing an interested party in an order designate a lead attorney to be included on the annual inquiry service list. Commerce will finalize the annual inquiry service list within five business days thereafter. As mentioned in the Procedural Guidance,¹³ the new annual inquiry service list will be in place until the following year, when the Opportunity Notice for the anniversary month of the order is published in the Federal Register.

¹³ See Procedural Guidance, 86 FR at 53206.

Commerce may update an annual inquiry service list at any time, as needed, based on interested parties' amendments to their entries of appearance to remove, or otherwise modify, their list of members and representatives, or to update contact information. Changes or announcements pertaining to these procedures will be posted to the ACCESS website at https://access.trade.gov.

Special Instructions for Petitioners and Foreign Governments

In the Final Rule, Commerce stated that, “after an initial request and placement on the annual inquiry service list, both petitioners and foreign governments will automatically be placed on the annual inquiry service list in the years that follow.” ¹⁴ Accordingly, as stated above, the petitioners and foreign governments should submit their initial entry of appearance after publication of this notice in the Federal Register in order to appear in the first annual inquiry service list. Pursuant to 19 CFR 351.225(n)(3), the petitioners and foreign governments will not need to resubmit their entries of appearance each year to continue to be included on the annual inquiry service list. However, the petitioners and foreign governments are responsible for making amendments to their entries of appearance during the annual update to the annual inquiry service list in accordance with the procedures described above.

¹⁴ See Final Rule, 86 FR 52335.

Notification to Interested Parties

This notice constitutes the AD orders with respect to DOTP from Malaysia, Poland, Taiwan, and Türkiye, pursuant to section 736(a) of the Act. Interested parties can find a list of AD orders currently in effect at https://www.trade.gov/data-visualization/adcvd-proceedings.

These AD orders are published in accordance with section 736(a) of the Act and 19 CFR 351.211(b).

Dated: May 16, 2025.
Scot Fullerton,
Acting Deputy Assistant Secretary for Antidumping and Countervailing Duty Operations.

Appendix

Scope of the Orders

The merchandise covered by the orders is dioctyl terephthalate (DOTP), regardless of form. DOTP that has been blended with other products is included within this scope when such blends include constituent parts that have not been chemically reacted with each other to produce a different product. For such blends, only the DOTP component of the mixture is covered by the scope of these orders.

DOTP that is otherwise subject to the orders is not excluded when commingled with DOTP from sources not subject to this investigation. Commingled refers to the mixing of subject and non-subject DOTP. Only the subject component of such commingled products is covered by the scope of these orders.

DOTP has the general chemical formulation of C6H4 (C8H17COO)2 and a chemical name of “bis (2-ethylhexyl) terephthalate” and has a Chemical Abstract Service (CAS) registry number of 6422-86-2. Regardless of the label, all DOTP is covered by these orders.

Subject merchandise is currently classified under subheading 2917.39.2000 of the Harmonized Tariff Schedule of the United States (HTSUS). Subject merchandise may also enter under subheadings 2917.39.7000 or 3812.20.1000 of the HTSUS. While the CAS registry number and HTSUS classifications are provided for convenience and customs purposes, the written description of the scope of these orders is dispositive.

[FR Doc. 2025-09163 Filed 5-21-25; 8:45 am]

BILLING CODE 3510-DS-P